DEPARTMENT OF INTERIOR

National Park Service

[NPS-WASO-NRSS-SSD-14980; PPWONRADE3, PPMRSNR1Y.NM0000]

Proposed Information Collection; National Park Service Visitor Survey Card

AGENCY: National Park Service, Interior.

ACTION: Notice; request for comments.

SUMMARY: We (National Park Service) will ask the Office of Management and Budget (OMB) to approve the information collection (IC) described below. As required by the Paperwork Reduction Act of 1995 and as part of our continuing efforts to reduce paperwork and respondent burden, we invite the general public and other Federal agencies to take this opportunity to comment on this IC. This IC is scheduled to expire on May 31, 2014. We may not conduct or sponsor, and a person is not required to respond to, a collection of information unless it displays a currently valid OMB control number.

DATES: To ensure that your comments on this IC are considered, we must receive them on or before April 11, 2014.

ADDRESSES: Direct all written comments on this IC to Phadrea Ponds, Information Collection Coordinator, National Park Service, 1201 Oakridge Drive, Fort Collins, CO 80525 (mail); or phadrea_ponds@nps.gov (email). Please reference Information Collection 1024-0216-VSC in the subject line.

FOR FURTHER INFORMATION CONTACT: Bret Meldrum, Chief, Social Science Program, National Park Service, 1201 Oakridge Drive, Fort Collins, CO 80525-5596 (mail); Bret_Meldrum@nps.gov (email); or 970-267-7295 (phone).

I. Abstract

The Visitor Survey Card (VSC) is used to measures visitors' opinions about park facilities, services, and recreational opportunities in each park unit and System-wide. In addition, the survey collects data strategic planning goal that contribute to NPS and DOI performance reports. Results of the VSC will also be used by park managers to improve visitor services at the approximately 330 units of the National Park System where the survey is administered.

II. Data

OMB Number: 1024-0216.

Title: National Park Service Visitor Survey Card.

Service Form Number(s): None.

Type of Request: Renewal of a previously approved collection.

Description of Respondents: Individuals or households; visitors to approximately 330 NPS units.

Respondent's Obligation: Voluntary.

Estimated Number of Annual Respondents: 40,000 respondents.

Estimated Time and Frequency of Response: This is a one-time survey estimated to take 3 minutes per respondent to complete.

Estimated Total Annual Burden Hours: 2,000 hours.

Estimated Annual “Non-Hour Cost” Burden: We have not identified any “non-hour cost” burdens associated with this collection of information.

III. Request for Comments

We invite comments concerning this information collection on:

• Whether or not the collection of information is necessary, including whether or not the information will have practical utility;

• The accuracy of our estimate of the burden for this collection of information;

• Ways to enhance the quality, utility, and clarity of the information to be collected; and

• Ways to minimize the burden of the collection of information on respondents.

Comments that you submit in response to this notice are a matter of public record. We will include or summarize each comment in our request to OMB to approve this IC. Before including your address, phone number, email address, or other personal identifying information in your comment, you should be aware that your entire comment, including your personal identifying information, may be made publicly available at any time. While you can ask us in your comment to withhold your personal identifying information from public review, we cannot guarantee that we will be able to do so.

Dated: February 4, 2014.
Madonna L. Baucum,
Information Collection Clearance Officer, National Park Service.

[FR Doc. 2014-02777 Filed 2-7-14; 8:45 am]

BILLING CODE 4310-EH-P